DEPARTMENT OF ENERGY

Federal Energy Regulatory Commission

[Docket No. CP02-90-003 and CP02-93-002]

AES Ocean Express LLC; Notice of Amendments to Certificate of Public Convenience and Necessity, Section 3 Authorization and Presidential Permit

September 23 2004.

Take notice that on September 9, 2004, as supplemented on September 15, 2004, and September 20, 2004, AES Ocean Express LLC (Ocean Express), Two Alhambra Plaza, Suite 1104, Coral Gables, Florida, 33134, filed in Docket No. CP02-90-003 an application to amend the certificate of public convenience and necessity that the Commission issued on January 29, 2004, in Docket Nos. CP02-90, et al. Ocean Express also filed in Docket No. CP02-93-002, an application to amend the Presidential Permit and Section 3 authorization that the Commission issued on January 29, 2004. Ocean Express's proposed amendments reflect the incorporation of tunnel construction methodology for the nearshore portion of its pipeline, as well as certain other design changes, for its natural gas pipeline between the United States and The Bahamas.

Ocean Express explains that the use of the tunnel construction methodology would allow it to construct the nearshore portion of its pipeline using an estimated 14,000 foot by 13 feet—7inch diameter earth-pressure balance tunnel, with certain minor route changes to accommodate the methodology, as opposed to the horizontal directional drills that the Commission has already approved. Ocean Express also proposes to increase the pipeline diameter from 24 inches to 26 inches and internally coat the pipeline, to allow for increased hourly flow rates. Ocean Express states that it is not proposing to increase the certificated capacity (842,000 Dth/day) of its pipeline. Additionally, Ocean Express proposes to install a pressure reducing station inside the tunnel to reduce the onshore Maximum Allowable Operating Pressure (MAOP) to 1480 psig or less, from the certificated MAOP of 2200 psig. Ocean Express proposes to amend the Presidential Permit and Section 3 authorization for the natural gas facilities at the Exclusive Economic Zone boundary between the United States and The Bahamas to increase the size of the pipe from 24 inches to 26 inches. Ocean Express requests a Commission decision on its amendment applications no later than November 30, 2004.

The amendments are on file with the Commission and open to public inspection. The filings may be viewed on the Web at http://www.ferc.gov using the “eLibrary” link. Enter the docket number excluding the last three digits in the docket number field to access the document. For assistance, please contact FERC Online Support at FERCOnlineSupport@ferc.gov or toll free at (866) 208-3676, or for TTY, contact (202) 502-8659. Any questions regarding the amendment may be directed to Julie Romaniw, AES Ocean Express LLC, Two Alhambra Plaza, Suite 1104, Coral Gables, FL 33134, (305) 444-4002.

Any person who was a party to Ocean Express's proceeding in Docket No. CP02-90, et al., is automatically a party to Ocean Express's proceeding as amended by Docket Nos. CP02-90-003 and CP02-93-002. Otherwise, there are two ways to become involved in the Commission's review of this amendment. First, any person wishing to obtain legal status by becoming a party to the proceedings for this amendment should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered concerning the amendment. The second way to participate is by filing with the Secretary of the Commission, as soon as possible, an original and two copies of comments in support of or in opposition to this amendment. The Commission will consider these comments in determining the appropriate action to be taken, but the filing of a comment alone will not serve to make the filer a party to the proceeding. The Commission's rules require that persons filing comments in opposition to the amendment provide copies of their protests only to the party or parties directly involved in the protest.

Persons who wish to comment only on the environmental review of this amendment should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see 18 CFR 385.2001(a)(1)(iii) and the instructions on the Commission's Web site under the “e-Filing” link. The Commission strongly encourages electronic filings.

Comment Date: October 13, 2004.

Magalie R. Salas,
Secretary.

[FR Doc. E4-2442 Filed 9-29-04; 8:45 am]

BILLING CODE 6717-01-P